DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them. OFAC is also publishing updates to the identifying information of 28 persons that are currently included on the SDN List. Finally, OFAC is publishing removal of 518 persons, including blocked property, from the SDN List.

DATES: This action was issued on June 30, 2025. See Supplementary Information for relevant dates.

FOR FURTHER INFORMATION CONTACT: OFAC: Associate Director for Global Targeting, 202-622-2420; Assistant Director for Licensing, 202-622-2480; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On June 30, 2025, the President issued Executive Order (E.O.) 14312 of June 30, 2025, “Providing for the Revocation of Syria Sanctions” that removes U.S. sanctions on Syria, effective July 1, 2025. This revocation includes six E.O.s that form the foundation of the Syrian Sanctions Regulations (31 CFR part 542, “SySR”), and terminates the national emergency underlying those E.O.s, which resulted in the removal of U.S. sanctions on Syria.

A. In line with E.O. 14312, on June 30, 2025, OFAC designated 139 persons who were previously designated pursuant to the SySR. OFAC has determined that the property and interests in property subject to U.S. jurisdiction of the following persons are blocked under the relevant sanctions authorities listed below. As a result of this designation, OFAC has further updated the listings of these persons, as reflected below.

BILLING CODE 4810-AL-P

C. In line with E.O. 14312, on June 30, 2025, OFAC updated the names of 28 persons who were designated pursuant to the SySR, in addition to other sanctions authorities. While these persons remain on the SDN List pursuant to other sanctions authorities, they are no longer designated pursuant to the SySR and their listings no longer reflect the SYRIA tag. The names and relevant sanctions authorities are listed at the URL below and may be distinguished from persons designated on the same day through the inclusion of a sanctions program tag other than or in addition to [PAARSSR-EO13894]: https://ofac.treasury.gov/recent-actions/20250630.

Lisa M. Palluconi,
Acting Director, Office of Foreign Assets Control.

[FR Doc. 2025-13277 Filed 7-15-25; 8:45 am]

BILLING CODE 4810-AL-C